COMMISSION ON CIVIL RIGHTS

Commission on Social Status of Black Men and Boys; Meeting Notice

AGENCY: Commission on the Social Status of Black Men and Boys (CSSBMB), U.S. Commission on Civil Rights (USCCR).

ACTION: Notice of CSSBMB inaugural public business meeting.

DATES: Wednesday, November 9, 2021, 1:00 p.m. ET.

ADDRESSES: Virtual briefing via https://www.youtube.com/user/USCCR/videos.

FOR FURTHER INFORMATION CONTACT: Marvin Williams: 202-339-2371; pressbmb@usccr.gov.

SUPPLEMENTARY INFORMATION: In accordance with Public Law 116-156, 134 Stat. 700 (2020), the Commission on the Social Status of Black Men and Boys (CSSBMB) Act, the CSSBMB Commission (Commission) will hold its first meeting. This meeting is open to the public. Pursuant to the Act, the Commission is a bipartisan group created by Congress in 2020, which consists of individuals knowledgeable about issues concerning Black men and boys in the United States, including: Education; justice and Civil Rights; healthcare; labor and employment; and housing. The Commission will utilize the expertise of its members to conduct a systematic study of the conditions identified as affecting Black men and boys, including homicide rates, arrest and incarceration rates, poverty, violence, fatherhood, mentorship, drug abuse, death rates, disparate income and wealth levels, school performance in all grade levels including postsecondary education and college, and health issues.

This meeting is open to the public via livestream on the Commission's YouTube Page at https://www.youtube.com/user/USCCR/videos. (Streaming information subject to change.) Public participation is available for the event with view access, along with an audio option for listening.

Computer assisted real-time transcription (CART) will be provided. The web link to access CART (in English) on Monday, November 1, 2021, is https://www.streamtext.net/player?event=USCCR. Please note that CART is text-only translation that occurs in real time during the meeting and is not an exact transcript.

* Date and meeting details are subject to change. For more information on the CSSBMB or the upcoming public meeting, please visit CSSBMB's website at www.usccr.gov/about/CSSBMB.

Meeting Agenda

I. Call to Order

A. Welcome and Presentation by USCCR Staff Director and introduction of CSSBMB Program Manager

II. Approval of Agenda

III. Business Meeting

A. Discussion and Vote on Chair, and Secretary

B. Discussion and Adoption of Rules to Conduct Business Meetings

C. Discussion and Vote on 2022 Meeting Dates

E. Management and Operations

• Program Manager's Report

IV. Chair Comments/Adjourn Meeting

Dated: October 27, 2021.
Angelia Rorison,
USCCR Media and Communications Director.

[FR Doc. 2021-23818 Filed 11-1-21; 8:45 am]

BILLING CODE P